DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) allow the proposed information collection project: “Surveys of Employee Benefit Managers of Large National Employers Concerning Dissemination Effectiveness of Health Services Research Information (SEBM)”. In accordance with the Paperwork Reduction Act of 1995, Public Law 104-13 (44 U.S.C. 3506(c)(2)(A)), AHRQ invites the public to comment on this proposed information collection.

DATES: Comments on this notice must be received by October 20, 2003.

ADDRESSES: Written comments should be submitted to: Cynthia D. McMichael, Reports Clearance Officer, AHRQ, 540 Gaither Road, Suite 5022, Rockville, MD 20850.

Copies of the proposed collection plans, data collection instruments, and specific details on the estimated burden can be obtained from AHRQ's Reports Clearance Officer.

FOR FURTHER INFORMATION CONTACT: Cynthia D. McMichael, AHRQ, Reports Clearance Officer, (301) 427-1651.

SUPPLEMENTARY INFORMATION:

Proposed Project

“Surveys of Employee Benefit Managers of Large National Employers Concerning Dissemination Effectiveness of Health Services Research Information (SEBM)”.

The SEBM is a series of two questionnaires and one telephone interview to learn the extent of awareness, use of , and satisfaction with the content of health services research information by employee benefits managers of large national employers. The surveys will also measure the effectiveness of the methods used to disseminate health services research information. The initial survey will serve as a benchmark against which the remaining two surveys in this study will be measured. Subsequent to the initial survey, AHRQ will initiate two interventions: (1) Placing AHRQ-sponsored information on a Web site and (2) making personal contact with employee benefits managers; a survey will follow each intervention to measure the extent to which each intervention makes employee benefit managers aware of AHRQ and its health research information. With this knowledge, AHRQ will be able to make changes to its information dissemination efforts to make them more effective and responsive to employee benefit managers.

Data Confidentiality Provisions

Data collected by the contractor and the contractor's draft analyses will be retained for one year after final acceptance of all contract deliverables, unless longer retention is requested by the agency for audit purposes. All agency documents pertaining to the contract will be archived after the contract is completed and retained in accordance with a Federal Records Act retention schedule.

Methods of Collection

The data will be collected using a combination of web-based and telephone surveys.

Estimated Annual Respondent Burden
Survey | Number of respondents | Estimated time per respondent in minutes | Estimated total burden hours | Estimated annual cost to the government
Initial Benchmark Survey | 240 | 10 | 40 | $4000
Post Intervention Survey #1 | 45 | 10 | 7.5 | 750
Post Intervention Survey #2 | 240 | 10 | 40 | 4000
Total | 525 | 10 | 87.5 | 8750

Request for Comments

In accordance with the above cited legislation, comments on AHRQ's information collection are requested with regard to any of the following: (a) whether the proposed collection of information is necessary for the proper performance of functions of AHRQ, including whether the information will have practical utility; (b) the accuracy of AHRQ's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Dated: August 14, 2003.
Carolyn M. Clancy,
Director.

[FR Doc. 03-21296 Filed 8-19-03; 8:45 am]

BILLING CODE 4160-90-M